DEPARTMENT OF TRANSPORTATION

Federal Aviation Administration

14 CFR Part 39

[Docket No. FAA-2016-5432; Directorate Identifier 2016-CE-009-AD; Amendment 39-18466; AD 2016-07-21]

RIN 2120-AA64

Airworthiness Directives; Piper Aircraft, Inc. Airplanes

AGENCY: Federal Aviation Administration (FAA), DOT.

ACTION: Final rule; request for comments.

SUMMARY: We are superseding Airworthiness Directive (AD) 2015-20-13 for certain Piper Aircraft, Inc. Models PA-28-161, PA-28-181, and PA-28R-201 airplanes. AD 2015-20-13 required inspecting the right wing rib at wing station 140.09 for cracks and taking necessary corrective action. This AD retains the actions for AD 2015-20-13 and adds airplanes to the applicability. This AD was prompted by reports that additional airplanes have been found with the same cracks. We are issuing this AD to correct the unsafe condition on these products.

DATES: This AD is effective April 26, 2016.

The Director of the Federal Register approved the incorporation by reference of a certain publication listed in this AD as of April 26, 2016.

The Director of the Federal Register approved the incorporation by reference of a certain other publication listed in this AD as of October 29, 2015 (80 FR 61725, October 14, 2015).

We must receive any comments on this AD by May 26, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this final rule, contact Piper Aircraft, Inc., Customer Service, 2926 Piper Drive, Vero Beach, Florida 32960; telephone: (877) 879-0275; fax: none; email: customer.service@piper.com; Internet: www.piper.com. You may view this referenced service information at the FAA, Small Airplane Directorate, 901 Locust, Kansas City, Missouri 64106. For information on the availability of this material at the FAA, call (816) 329-4148. It is also available on the Internet at http://www.regulations.gov by searching for and locating Docket No. FAA-2016-5432.

Examining the AD Docket

You may examine the AD docket on the Internet at http://www.regulations.gov by searching for and locating Docket No. FAA-2016-5432; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Gregory “Keith” Noles, Aerospace Engineer, FAA, Atlanta Aircraft Certification Office, 1701 Columbia Avenue, College Park, Georgia 30337; phone: (404) 474-5551; fax: (404) 474-5606; email: gregory.noles@faa.gov.

SUPPLEMENTARY INFORMATION:

Discussion

On October 1, 2015, we issued AD 2015-20-13, Amendment 39-18292 (80 FR 61725), (“AD 2015-20-13”), for certain Piper Aircraft, Inc. Models PA-28-161, PA-28-181, and PA-28R-201 airplanes. AD 2015-20-13 required inspecting the right wing rib at wing station 140.09 for cracks and taking necessary corrective action. AD 2015-20-13 resulted from a report from Piper Aircraft, Inc. of a production quality control problem on certain Models PA-28-161, PA-28-181, and PA-28R-201 airplanes. A change in production tooling and processes caused cracks to form along the edge of rib stiffening beads during manufacture. These cracks cause reduced structural integrity of the wing, which resulted in the inability of the wing rib to carry ultimate load. We issued AD 2015-20-13 to detect and correct cracks in the wing rib, which if not corrected, could result in reduced structural integrity of the wing with consequent loss of control.

Actions Since AD 2015-20-13 Was Issued

Since we issued AD 2015-20-13, we received reports that operators in the field found the same cracks in airplanes outside the original applicability. After further investigation, Piper Aircraft, Inc. issued a new service bulletin expanding the serial number applicability of the affected airplane models. We are issuing this AD to correct the unsafe condition on these products.

Related Service Information Under 1 CFR Part 51

We reviewed Piper Aircraft, Inc. Service Bulletin No. 1279A, dated March 3, 2016. The service bulletin describes procedures for inspecting the right wing rib at wing station 140.09 for cracks and for obtaining an FAA-approved repair if cracks are found. This service information is reasonably available because the interested parties have access to it through their normal course of business or by the means identified in the ADDRESSES section.

FAA's Determination

We are issuing this AD because we evaluated all the relevant information and determined the unsafe condition described previously is likely to exist or develop in other products of the same type design.

AD Requirements

This AD requires accomplishing the actions specified in the service information described previously.

FAA's Justification and Determination of the Effective Date

An unsafe condition exists that requires the immediate adoption of this AD. The FAA has found that the risk to the flying public justifies waiving notice and comment prior to adoption of this rule because cracks in the wing rib, if not detected and corrected immediately, could result in reduced structural integrity of the wing with consequent loss of control. Therefore, we find that notice and opportunity for prior public comment are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include the docket number FAA-2016-5432 and directorate identifier 2016-CE-009-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 725 airplanes of U.S. registry.

We estimate the following costs to comply with this AD:

Estimated Costs
Action | Labor cost | Parts cost | Cost per product | Cost on U.S. operators
Inspect the right wing rib at wing station 140.09 for cracks | 1 work-hour × $85 per hour = $85 | Not applicable | $85 | $61,625

We estimate the following costs to do any necessary repairs that will be required based on the results of the inspection. This estimate is based on replacement of the rib. We have no way of determining the number of airplanes that might need these repairs:

On-Condition Costs
Action | Labor cost | Parts cost | Cost per product
Repair of the of the wing rib | 35 work-hours × $85 per hour = $2,975 | $125 | $3,100

According to the manufacturer, some of the costs of this AD may be covered under warranty, thereby reducing the cost impact on affected individuals. We do not control warranty coverage for affected individuals. As a result, we have included all costs in our cost estimate.

The only cost difference between this AD and AD 2015-20-13 is the cost associated with adding 710 airplanes to the Applicability section.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-20-13, Amendment 39-18292 (80 FR 61725, October 14, 2015) and adding the following new AD:

2016-07-21 Piper Aircraft, Inc.: Amendment 39-18466; Docket No. FAA-2016-5432; Directorate Identifier 2016-CE-009-AD.

(a) Effective Date

This AD is effective April 26, 2016.

(b) Affected ADs

This AD replaces AD 2015-20-13, Amendment 39-18292 (80 FR 61725) (“AD 2015-20-13”).

(c) Applicability

This AD applies to the following Piper Aircraft, Inc. airplanes certificated in any category.

(1) Airplanes previously affected by AD 2015-20-13: Model PA-28-161 airplanes, serial numbers (S/Ns) 2842393 through 2842395; Model PA-28-181 airplanes, S/Ns 2843769 through 2843775 and 2843779 through 2843791; and Model PA-28R-201 airplanes, S/N 2844152.

(2) Airplanes new to this AD: Model PA-28-161 airplanes, S/Ns 2842010 through 2842392; Model PA-28-181 airplanes, S/Ns 2843021 through 2843768; and Model PA-28R-201 airplane, S/Ns 2844004 through 2844151.

(d) Subject

Joint Aircraft System Component (JASC)/Air Transport Association (ATA) of America Code 5712, Wing Ribs/Bulkhead.

(e) Unsafe Condition

This AD was prompted by reports of cracks found in the wing rib on airplanes outside the Applicability, paragraph (c), of AD 2015-20-13. The cracks occurred in production during forming of the wing rib bead radius. We are issuing this AD to detect and correct cracks in the wing rib, which if not corrected, could result in reduced structural integrity of the wing with consequent loss of control.

(f) Compliance

Comply with this AD within the compliance times specified, unless already done.

(g) Inspect

(1) Inspect the right wing rib at wing station (WS) 140.09 for cracks at the following compliance times.

(i) For airplanes previously affected by AD 2015-20-13: Within the next 25 hours time-in-service after (TIS) after October 29, 2015 (the effective date retained from AD 2015-20-13) following the INSTRUCTIONS section of Piper Aircraft, Inc. Service Bulletin No. 1279, dated August 26, 2015, or Piper Aircraft, Inc. Service Bulletin No. 1279A, dated March 3, 2016.

(ii) For airplanes new to this AD: Within the next 25 hours TIS after April 26, 2016 (the effective date of this AD) following the INSTRUCTIONS section of Piper Aircraft, Inc. Service Bulletin No. 1279A, dated March 3, 2016.

(2) If any crack is detected during the inspection required by paragraph (g)(1) of this AD, before further flight, obtain and implement an FAA-approved repair scheme, approved specifically for this AD. At the operator's discretion, assistance may be provided by contacting Piper Aircraft, Inc. at the address identified in paragraph (k)(5) of this AD.

(h) Special Flight Permit

A special flight permit is allowed for this AD per 14 CFR 39.23 for the inspection required in paragraph (g)(1) of this AD. If a crack is found during the inspection required in paragraph (g)(1) of this AD, a special flight permit is allowed with the following limitations:

(1) Flight must be planned to the nearest location where repairs can be done;

(2) Indicated airspeed must be 120 knots or less for the entire flight;

(3) Bank angle is not to exceed 30 degrees for the entire flight;

(4) Maximum load factors must be between +3.0 and −1.0 for the entire flight; and

(5) Flight must be performed VFR, with no turbulence greater than “light” forecast for the planned flight route and altitude.

(i) Alternative Methods of Compliance (AMOCs)

(1) The Manager, Atlanta ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j) of this AD.

(2) Before using any approved AMOC, notify your appropriate principal inspector, or lacking a principal inspector, the manager of the local flight standards district office/certificate holding district office.

(j) Related Information

For more information about this AD, contact Gregory “Keith” Noles, Aerospace Engineer, FAA, Atlanta ACO, 1701 Columbia Avenue, College Park, Georgia 30337; phone: (404) 474-5551; fax: (404) 474-5606; email: gregory.noles@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on April 26, 2016.

(i) Piper Aircraft, Inc. Service Bulletin No. 1279A, dated March 3, 2016.

(ii) Reserved.

(4) The following service information was approved for IBR on October 29, 2015 (80 FR 61725, October 14, 2015).

(i) Piper Aircraft, Inc. Service Bulletin No. 1279, dated August 26, 2015.

(ii) Reserved.

(5) For Piper Aircraft, Inc. service information identified in this AD, contact Piper Aircraft, Inc., Customer Service, 2926 Piper Drive, Vero Beach, Florida 32960; telephone: (877) 879-0275; fax: none; email: customer.service@piper.com; Internet: www.piper.com.

(6) You may review the referenced service information at the FAA, Small Airplane Directorate, 901 Locust, Kansas City, Missouri 64106. For information on the availability of this material at the FAA, call (816) 329-4148. It is also available on the Internet at http://www.regulations.gov by searching for locating Docket No. FAA-2016-5432.

(7) You may view this service information that is incorporated by reference at the National Archives and Records Administration (NARA). For information on the availability of this material at NARA, call 202-741-6030, or go to: http://www.archives.gov/federal-register/cfr/ibr-locations.html.

Issued in Kansas City, Missouri, on March 28, 2016.
Jacqueline Jambor,
Acting Manager, Small Airplane Directorate, Aircraft Certification Service.

[FR Doc. 2016-07580 Filed 4-8-16; 8:45 am]

BILLING CODE 4910-13-P